ENVIRONMENTAL PROTECTION AGENCY

[Petition IV-2007-3; FRL-8943-1]

Clean Air Act Operating Permit Program; Petition for Objection to State Operating Permit for Tennessee Valley Authority—Paradise Fossil Fuel Plant; Drakesboro (Muhlenberg County), KY

AGENCY: Environmental Protection Agency (EPA).

ACTION: Notice of final order on petition to object to a state operating permit.

SUMMARY: Pursuant to Clean Air Act (CAA) section 505(b)(2) and 40 CFR 70.8(d), the EPA Administrator signed an Order, dated July 13, 2009, partially granting and partially denying a petition to object to a State operating permit issued by the Kentucky Division for Air Quality (KDAQ) to Tennessee Valley Authority (TVA) for its Paradise Fossil Fuel Plant (Plant Paradise) located in Drakesboro, Muhlenberg County, Kentucky. This Order constitutes a final action on the petition submitted by Preston Forsythe, the Center for Biological Diversity, Kentucky Heartwood, Sierra Club, and Hilary Lambert (Petitioners) on December 27, 2007. Pursuant to section 505(b)(2) of the CAA, any person may seek judicial review of the Order in the United States Court of Appeals for the appropriate circuit within 60 days of this notice under section 307(b) of the Act.

ADDRESSES: Copies of the Order, the petition, and all pertinent information relating thereto are on file at the following location: EPA Region 4, Air, Pesticides and Toxics Management Division, 61 Forsyth Street, SW., Atlanta, Georgia 30303-8960. The Order is also available electronically at the following address: http://www.epa.gov/region7/programs/artd/air/title5/petitiondb/petitions/tvaparadise_decision2007.pdf.

FOR FURTHER INFORMATION CONTACT: Art Hofmeister, Air Permits Section, EPA Region 4, at (404) 562-9115 or hofmeister.art@epa.gov.

SUPPLEMENTARY INFORMATION: The CAA affords EPA a 45-day period to review and, as appropriate, the authority to object to operating permits proposed by State permitting authorities under title V of the CAA, 42 U.S.C. 7661-7661f. Section 505(b)(2) of the CAA and 40 CFR 70.8(d) authorize any person to petition the EPA Administrator to object to a title V operating permit within 60 days after the expiration of EPA's 45-day review period if EPA has not objected on its own initiative. Petitions must be based only on objections to the permit that were raised with reasonable specificity during the public comment period provided by the State, unless the petitioner demonstrates that it was impracticable to raise these issues during the comment period or the grounds for the issues arose after this period.

Petitioners submitted a petition on December 27, 2007, requesting that EPA object to a State title V operating permit issued by KDAQ to TVA Plant Paradise. Petitioners alleged that the permit was not consistent with the CAA for the following reasons: (1) The permit fails to include the prevention of significant deterioration (PSD) analysis for the three main boilers (Units 1-3) for NOX due to alleged modifications undertaken at Plant Paradise beginning in 1984 without TVA obtaining required PSD permits; (2) the permit does not require year-round operation of the selective catalytic reduction system consistent with 401 KAR 50:055; (3) continuous opacity monitoring systems (COMS) should be installed on Units 1-3 and that Method 9 is not sufficient to ensure compliance with the opacity requirements; (4) the permit fails to require a continuous emissions monitoring system (CEMS) for NOX; (5) the particulate matter emissions monitoring from the coal washing and handling plant are not enforceable and are inadequate; (6) the permit fails to require reporting of all monitoring results from COMS or CEMS; (7) the permit fails to contain language allowing for the use of any credible evidence; (8) the permit fails to include a case-by-case maximum achievable control technology determination for Units 4-6 for the industrial boiler national emissions standard for hazardous air pollutants.

On July 13, 2009, the Administrator issued an Order partially granting and partially denying the petition. The Order explains EPA's rationale for granting the petition with respect to issues 1, 3, 4 and 5, and denying on the other issues.

Dated: July 29, 2009.
Beverly Banister,
Acting Regional Administrator, Region 4.

[FR Doc. E9-19071 Filed 8-7-09; 8:45 am]

BILLING CODE 6560-50-P